DEPARTMENT OF STATE

[Public Notice 7448]

Bureau of Educational and Cultural Affairs (ECA) Request for Cooperative Agreement Proposals; English Language Fellow Program for Academic Year (AY) 2012-2013

Announcement Type: New Cooperative Agreement.

Funding Opportunity Number: ECA/A/L-12-01.

Catalog of Federal Domestic Assistance Number: 19.421.

Key Program Dates: N/A.

Application Deadline: June 24, 2011.

The Office of English Language Programs of the Bureau of Educational and Cultural Affairs announces an open competition for proposals to advance the Bureau's objectives through support of academic exchanges that will result in the improvement of English teaching capacity around the world and the enhancement of mutual understanding between the people of the United States and those of other countries through exchanges of U.S. English language educators to all regions of the world.

The English Language Fellow (EL Fellow) Program sends U.S. educators in the field of Teaching English as a Foreign Language (TEFL) on ten-month fellowships to overseas academic institutions. The Program brings foreign English as a Foreign Language (EFL) Educators to the U.S. for a three-week workshop/institute including participation in the annual Teachers of English to Speakers of Other Languages (TESOL) Convention. Pending the availability of Fiscal Year FY 2012 funds, the Bureau anticipates the placement of approximately 112 English Language Fellows overseas in AY 2012-2013. Public and private non-profit organizations meeting the provisions described in Internal Revenue Code, Section 26 U.S.C. 501 (c) (3) may submit proposals to administer and manage the EL Fellow Program for AY 2012-2013.

I. Funding Opportunity Description:

Authority

Overall Grant and Agreement-making authority for this program is contained in the Mutual Educational and Cultural Exchange Act of 1961, Public Law 87-256, as amended, also known as the Fulbright-Hays Act. The purpose of the Act is “to enable the Government of the United States to increase mutual understanding between the people of the United States and the people of other countries * * * ; to strengthen the ties which unite us with other nations by demonstrating the educational and cultural interests, developments, and achievements of the people of the United States and other nations * * * and thus to assist in the development of friendly, sympathetic and peaceful relations between the United States and the other countries of the world.” The funding authority for the program above is provided through legislation.

Purpose

The English Language Fellow Program fosters mutual understanding between the people of the United States and those of other countries through exchanges of U.S. English language educators. The EL Fellow Program sends talented, highly qualified U.S. educators in the field of Teaching English to Speakers of Other Languages (TESOL) on ten-month assignments to academic institutions in all regions of the world. Through projects recommended by U.S. embassies, EL Fellows share their expertise, hone their skills, gain international experience, and learn about other cultures. Upon returning to the United States, they share their experiences and acquired knowledge with their communities and professional colleagues. Projects are carried out with host-country ministries of education, universities, teacher-training institutions, NGOs, binational centers, and other English language teaching institutions.

The EL Fellow Program allows students and teachers at host institutions to benefit from the EL Fellows' expertise and to gain a better understanding of American values, representative government, free enterprise, and the rule of law. EL Fellows provide foreign educators, professionals, and students with communications skills they need to participate in the global economy and to improve their access to diverse perspectives on a broad variety of issues.

During the program, EL Fellows typically serve as full-time (up to 20 classroom contact hours per week) educators assigned to foreign host institutions and may be engaged in teacher training, curriculum and materials development, English for Specific Purposes (ESP) instruction, assessment, evaluation, research, English club or American Corner programming, summer camps, and other outreach projects.

The overarching goals of the EL Fellow Program are to:

• Advance the Department of State's mutual understanding objectives;

• Enhance English teaching capacity overseas in order to provide foreign teachers and students with the communication skills they need to participate in the global economy;

• Allow students and teachers at host institutions to benefit from the EL Fellows' expertise and to gain a better understanding of American values, representative government, free enterprise, and the rule of law; and

• Provide an opportunity for U.S. English language educators to share their expertise, hone their skills, and learn about other cultures, so that upon returning to the United States, they can share their experiences and acquired knowledge with their communities and professional colleagues.

EL Fellow Eligibility Requirements

• U.S. citizenship;

• Master's degree with focus on Teaching English as a Foreign or Second Language (TEFL/TESL), Applied Linguistics, or relevant field, conferred no later than end of 2012 spring semester;

• Minimum of three years of professional experience in the field of teaching English to non-native speakers (one year of experience equals two semesters of 15-16 hours per week); and

• Teacher training experience (Senior EL Fellows should have at least four years of teacher training experience and one full year of international teaching experience).

Background

The Bureau seeks to award a Cooperative Agreement to an applicant with the ability to achieve these objectives and that has the necessary infrastructure and experience conducting academic exchange programs. The timing of the award and the amount of funding for the EL Fellow Program are subject to the availability of funds in FY 2012.

EL Fellow Program Guidelines

With the approval of the Office of English Language Programs, the roles and responsibilities of the Recipient administering the EL Fellow Program are to:

• Design and develop promotional materials to support advertisement and recruitment for the EL Fellow Program.

• Conduct an extensive, comprehensive, and ongoing promotional and advertising campaign to recruit qualified and experienced candidates for the EL Fellow Program.

• Identify and review with the Bureau of Educational and Cultural Affairs, Office of English Language Programs, and U.S. embassies, candidates for approximately 112 EL Fellow projects selected by the U.S. Department of State. Qualified staff must interview candidates and match candidates' skills to the needs of specific projects. The recruitment, selection, and placement process shall be completed by May 1, 2012.

• Plan and conduct a pre-departure orientation in Washington, DC in August 2012.

• Conduct all financial management aspects of the EL Fellow Program, including processing of all EL Fellow grant payments electronically to EL Fellows' designated bank accounts. Maintain an EL Fellow Program budget spreadsheet.

• Provide fiscal management for EL Fellows' professional development activities during the assignment. These activities are selected by the Bureau and are supported by U.S. embassies and the Public Diplomacy Offices of the U.S. Department of State's Regional Geographic Bureaus.

• Make all necessary travel arrangements for the EL Fellows including reservations and issuance of tickets.

• Enroll the selected EL Fellows in the Bureau Accident and Sickness Program for Exchanges (ASPE) Benefit Plan.

• Collect EL Fellows' health verification forms and arrange for proper medical clearance by a qualified medical practitioner.

• Monitor the EL Fellow Program activities and the EL Fellows, including emergencies, project performance, housing, security, terminations, and making regional site visit(s).

• Prepare and enter into a fellowship agreement which establishes the terms and conditions of the 10-month fellowship including communications, project performance, terminations, and other program-related issues.

• Communicate directly with EL Fellows with regard to fellowship-related issues including, in consultation with the relevant U.S. embassy and host institution(s), project performance, emergencies, terminations, reporting, highlights, and successes.

• Notify and consult with the Office of English Language Programs (ECA/A/L) immediately in regard to EL Fellows' emergencies, evacuations, project performance, terminations, etc., and act in accordance to guidance from the Bureau.

• Develop evaluation and implement strategies designed to measure the impact and outcome of the EL Fellow Program and the effectiveness of each individual EL Fellow's professional activities at his/her designated host institution(s).

• Maintain information sharing tools (e.g., Web site/listserv, database, and social networking media) and provide EL Fellow information to the Bureau's Alumni Office.

• Organize and implement activities related to the annual TESOL Convention, including: conducting a one-week Exchange EFL (English as a Foreign Language) Educators Fellow workshop/institute for foreign participants chosen by the State Department; arranging for the workshop/institute participants to attend the annual TESOL Convention; and, making all provisions for the Office of English Language Programs' networking event at the TESOL Convention for the workshop/institute participants and EL Fellow Program alumni;

• Prepare Form DS-2019 and send the Form to each selected Exchange EFL Educator Fellow at least 60 days before his/her departure from his/her home country for the workshop/institute.

The responsibilities of the Recipient are clearly detailed in the Project Objectives, Goals, and Implementation (POGI). Due to the diverse responsibilities involved in administering the Cooperative Agreement, the Bureau welcomes the submission of proposals involving partnering organizations. In addition to the primary grantee, these other organizations may be sub-grantees responsible for carrying out specific activities or components of the EL Fellow Program, such as recruitment, financial and logistical management, reporting requirements, pre-departure orientation, evaluations, clearance of health verification records, TESOL 2012 related activities, etc. Applicants should include a minimum of two management staff with qualifications and experience in TEFL/TESL or Applied Linguistics. Applications involving partnering organizations, if applicable, must clearly delineate the role each partnering organization will play and its responsibilities. Letters of commitment from any potential partnering organization(s) must be included.

In a Cooperative Agreement, ECA/A/L is substantially involved in the program activities above and beyond routine monitoring. ECA/A/L activities and responsibilities for this program are as follows:

• Providing overall program and policy design and direction;

• Inviting U.S. embassies to submit EL Fellow proposals;

• Reviewing and analyzing the ability of projects to raise the academic standards of English language teaching and to promote the Bureau's public diplomacy and exchanges goals;

• Analyzing the prospective impact of projects on host-country English teaching institutions and the likelihood of projects meeting host-country institutional needs;

• Prioritizing and finalizing selection of projects for which the Recipient will recruit EL Fellow candidates;

• Reviewing candidates' qualifications and résumés;

• Monitoring participants and program activities;

• Communicating and working with U.S. embassies to resolve EL Fellow issues (academic, health, security, etc.); and

• Reviewing reports of EL Fellow activities and projects in host countries.

U.S. embassies submit proposals to the Bureau identifying opportunities for placement of Fellows in host-country institutions in accordance with the guidance provided by the Bureau. U.S. embassies are responsible for managing the EL Fellow Program in-country. The role of the U.S. embassies includes:

• Selecting host institutions, including evaluating the security of prospective sites;

• Establishing viable partnerships with prospective in-country host institutions that have critical English language programming needs;

• Developing project proposals in consultation with in-country host institutions to be implemented by EL Fellows;

• Reviewing applicants' qualifications and making final selections of EL Fellow candidates in consultation with in-country host institutions;

• Contacting EL Fellows prior to their arrival to answer questions about work-related issues, and to ensure that they have accurate information regarding housing, visa requirements, security, etc.;

• Conducting an EL Fellows' in-country arrival orientation and ensuring that the EL Fellows receive a security briefing by the embassy's Regional Security Officer;

• Working to maximize participants' safety and well-being, locating and securing quality housing, ensuring that the EL Fellows' visa/residency status is adjusted immediately after arrival in host country to comply with host-country immigration regulations, and acting as the EL Fellows' and Bureau's direct point of contact;

• Conducting site visits and jointly monitoring EL Fellows' programs and activities with the recipient and sharing of information with the recipient; and

• Selecting nominees (foreign teachers of English as a Foreign language) for participation in the 46th Annual TESOL Convention (TESOL 2012) and related activities in the U.S.

II. Award Information

Type of Award: Cooperative Agreement.

Bureau's level of involvement in the EL Fellow Program is listed under number I above.

Fiscal Year Funds: FY 2012 (pending availability of funds).

Approximate Total Funding: $8,500,000.

Approximate Number of Awards: 1.

Approximate Average Award: $8,500,000.

Floor of Award Range: N/A.

Ceiling of Award Range: N/A.

Anticipated Award Date: October 1, 2011, pending availability of funds.

Anticipated Project Completion Date: March 31, 2014.

Additional Information: Pending successful implementation of the EL Fellow Program and the availability of funds in subsequent fiscal years, it is the Bureau's intent to renew this Cooperative Agreement for two additional fiscal years before openly competing it again.

III. Eligibility Information

III.1. Eligible applicants: Applications may be submitted by public and private non-profit organizations meeting the provisions described in Internal Revenue Code section 26 U.S.C. 501(c)(3).

III.2. Cost sharing or matching funds: There is no minimum or maximum percentage required for this competition. However, the Bureau encourages applicants to provide maximum levels of cost sharing and funding in support of its programs. When cost sharing is offered, it is understood and agreed that the applicant must provide the amount of cost sharing as stipulated in its proposal and later included in an approved Cooperative Agreement. Cost sharing may be in the form of allowable direct or indirect costs. For accountability, the applicant must maintain written records to support all costs which are claimed as contribution, as well as costs to be paid by the Federal government. Such records are subject to audit. The basis for determining the value of cash and in-kind contributions must be in accordance with OMB Circular A-110, (Revised), Subpart C.23—Cost Sharing and Matching. In the event the applicant does not provide the minimum amount of cost sharing as stipulated in the approved budget, the Bureau's contribution will be reduced in like proportion.

III.3. Other Eligibility Requirements

Bureau Cooperative Agreement guidelines require that organizations with less than four years experience in conducting international exchanges be limited to $60,000 in Bureau funding. ECA anticipates awarding one Cooperative Agreement in an amount up to $8,500,000 to support program and administrative costs required to implement this exchange program. Therefore, organizations with less than four years experience in conducting international exchanges are ineligible to apply under this competition. The Bureau encourages applicants to provide maximum levels of cost sharing and funding in support of its programs.

IV. Application and Submission of Information

Note: Please read the complete Federal Register announcement before sending inquiries or submitting proposals. Once the RFGP deadline has passed, Bureau staff may not discuss this competition with applicants until the proposal review process has been completed.

IV.1. Contact Information To Request an Application Package

Please contact the Office of English Language Programs, ECA/A/L, U.S. Department of State, SA-5, 4th Floor, 2200 C Street, NW., Washington, DC 20522, telephone (202) 632-9267, fax: (202) 632-9267, e-mail williamsoncj@state.gov to request a Solicitation Package. Please refer to Funding Opportunity Number ECA/A/L-12-01 located at the top of this announcement when making your request.

Alternatively, an electronic application package may be obtained from Grants.gov. Please see section IV.2 for further information.

The Solicitation Package contains the Proposal Submission Instructions (PSI) document which consists of required application forms, and standard guidelines for proposal preparation.

It also contains the Project Objectives, Goals, and Implementation (POGI) document, which provides specific information, award criteria, and budget instructions tailored to this competition.

Please specify ECA/A/L Program Officer, Catherine Williamson, and refer to Funding Opportunity Number ECA/A/L-12-01 located at the top of this announcement on all other inquiries and correspondence.

IV.2. To Download a Solicitation Package via Internet

The entire Solicitation Package may be downloaded from the Bureau's Web site at http://exchanges.state.gov/education/rfgps/menu.htm or from the Grants.gov Web site at http://www.grants.gov.

Please read all information before downloading.

IV.3. Content and Form of Submission: Applicants must follow all instructions in the Solicitation Package. The application should be submitted per the instructions under IV.3f. “Application Deadline and Methods of Submission” section below.

IV.3a. Applicant is required to have a Dun and Bradstreet Data Universal Numbering System (DUNS) number to apply for a Grant or Cooperative Agreement from the U.S. Government. This number is a nine-digit identification number, which uniquely identifies business entities. Obtaining a DUNS number is easy and there is no charge. To obtain a DUNS number, access http://www.dunandbradstreet.com or call 1-866-705-5711. Please ensure that the applicant's DUNS number is included in the appropriate box of the SF-424, which is part of the formal application package.

IV.3b. All proposals must contain an executive summary, proposal narrative, and budget. Please refer to the Solicitation Package for formatting and technical requirements. The package contains the mandatory Proposal Submission Instructions (PSI) document and the Project Objectives, Goals, and Implementation (POGI) document.

IV.3c. All Federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted. Applicant must have nonprofit status with the IRS at the time of application. Please note: Effective March 14, 2008, all applicants for ECA Federal assistance awards must include with their application, a copy of page 5, Part V-A, “Current Officers, Directors, Trustees, and Key Employees” of their most recent Internal Revenue Service (IRS) Form 990, “Return of Organization Exempt From Income Tax.” If the organization is a private nonprofit which has not received a Grant or Cooperative Agreement from ECA in the past three years, or if the applicant organization has received nonprofit status from the IRS within the past four years, the applicant must submit the necessary documentation to verify nonprofit status as directed in the PSI document. Failure to do so will cause the proposal to be declared technically ineligible.

IV.3d. Please take into consideration the following information when preparing the proposal narrative:

IV.3d.1 Adherence to All Regulations Governing the J Visa

The Bureau of Educational and Cultural Affairs places critical emphases on the security and proper administration of Exchange Visitor (J visa) programs and adherence by the Recipient and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting, and other requirements.

A copy of the complete regulations governing the administration of Exchange Visitor (J) programs is available at http://exchanges.state.gov or from: Office of Designation, Private Sector Programs Division, U.S. Department of State, ECA/EC/D/PS, SA-5, 5th Floor, 2200 C Street, NW., Washington, DC 20037.

Please refer to Solicitation Package for further information.

IV.3d.2 Diversity, Freedom, and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the `Support for Diversity' section for specific suggestions on incorporating diversity into the proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above not have inappropriate influence in the selection process. Proposals should reflect advancement of these goals in their program contents, to the full extent deemed feasible.

IV.3d.3. Program Monitoring and Evaluation

Proposals must include a plan to monitor and evaluate the project's success, both as the activities unfold and at the end of the program. The Bureau recommends that the proposal include a draft survey questionnaire, or other technique, plus a description of a methodology to be used to link outcomes to original project objectives. The Bureau expects that the Recipient will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. The evaluation plan should include a description of the project's objectives, the anticipated project outcomes, and how and when the Recipient intends to measure these outcomes (performance indicators). The more that outcomes are “smart” (specific, measurable, attainable, results-oriented, and placed in a reasonable time frame), the easier it will be to conduct the evaluation. The Recipient should also show how the project objectives link to the goals of the program described in this RFGP. The monitoring and evaluation plan should clearly distinguish between program outputs and outcomes. Outputs are products and services delivered, often stated as an amount. Output information is important to show the scope or size of project activities, but it cannot substitute for information about progress towards outcomes, i.e., the results achieved. Examples of outputs include the number of people trained or the number of seminars conducted. Outcomes, in contrast, represent specific intended project results to achieve, and is usually measured as an extent of change. Findings on outputs and outcomes should both be reported, but the focus should be on outcomes.

We encourage the applicant to assess the following four levels of outcomes as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; such as greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of the monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

The Recipient will be required to provide reports analyzing the evaluation findings to the Bureau in the regular program reports. All data collected, including survey responses and contact information, must be maintained for a minimum of three years and provided to the Bureau upon request.

IV. 3d.4. Describe plans for sustainability, e.g., overall program management, staffing, coordination with ECA and embassies.

IV.3e. Please take the following information into consideration when preparing the budget:

IV.3e.1. Applicants must submit SF-424A—“Budget Information—Non-Construction Programs” along with a comprehensive budget for the entire program. The budget request may not exceed $8,500,000. There must be a summary budget as well as breakdowns reflecting both administrative and program budgets. Applicants may provide separate sub-budgets for each program component, phase, location, or activity to provide clarification.

IV.3e.2. For allowable costs for the program and complete budget guidelines and formatting instructions, please refer to the Solicitation Package and POGI.

IV.3f. Application Deadline and Methods of Submission

Application Deadline Date: June 24, 2011.

Reference Number: ECA/A/L-12-01.

Methods of Submission:

Applications may be submitted in one of two ways:

1. In hard-copy, via a nationally recognized overnight delivery service (i.e., DHL, Federal Express, UPS, Airborne Express, or U.S. Postal Service Express Overnight Mail, etc.), or

2. Electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals, shipped after the established deadline, are ineligible for consideration under this competition. ECA will not notify the applicant upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing the submission please make sure to include one extra copy of the completed SF-424 form and place it in an envelope addressed to “ECA/EX/PM.”

The original and 11 copies of the application should be sent to: Program Management Division, ECA-IIP/EX/PM, Ref: ECA/A/L-12-01, SA-5, Floor 4, U.S. Department of State, 2200 C Street, NW., Washington, DC 20037.

IV.3f.2—Submitting Electronic Applications

Applicants have the option of submitting proposals electronically through Grants.gov (http://www.grants.gov). Complete solicitation packages are available at Grants.gov in the “Find” portion of the system.

Please note: ECA bears no responsibility for applicant timeliness of submission or data errors resulting from transmission or conversion processes for proposals submitted via Grants.gov.

Please follow the instructions available in the `Get Started' portion of the site (http://www.grants.gov/GetStarted).

Several of the steps in the Grants.gov registration process could take several weeks to complete. Therefore, applicants should check with appropriate staff within their organizations immediately after reviewing this RFGP to confirm or determine their registration status with Grants.gov.

Once registered, the amount of time it can take to upload an application will vary depending on a variety of factors including the size of the application and the speed of your Internet connectivity. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA bears no responsibility for data errors resulting from transmission or conversion processes.

Direct all questions regarding Grants.gov registration and submission to:

Grants.gov Customer Support.

Contact Center Phone: 800-518-4726.

Business Hours: Monday-Friday, 7 a.m.-9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the Grants.gov system and will be technically ineligible.

Please refer to the Grants.gov Web site, for definitions of various “application statuses” and the difference between a submission receipt and a submission validation. Applicants will receive a validation e-mail from Grants.gov upon the successful submission of an application. Again, validation of an electronic submission via Grants.gov can take up to two business days. Therefore, we strongly recommend that you not wait until the application deadline to begin the submission process through Grants.gov. ECA will not notify you upon receipt of electronic applications.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau Grant and Agreement panels for advisory review. Proposals may also be reviewed by the Office of the Legal Adviser or by other Department elements. Final funding decisions are at the discretion of the Department of State's Assistant Secretary for Educational and Cultural Affairs. Final technical authority for a Cooperative Agreement resides with the Bureau's Grants Officer.

V.2. Review Criteria

Technically eligible applications will be competitively reviewed according to the criteria stated below. These criteria are not rank ordered and all carry equal weight in the proposal evaluation:

1. Quality of the program idea/program planning: Proposals should exhibit originality, substance, precision, and relevance to the Bureau's mission. Detailed agenda and relevant work plan should demonstrate substantive undertakings and logistical capacity. Agenda and plan should adhere to the program overview and guidelines described above. Proposal should clearly demonstrate how the applicant will meet the program's objectives and plan.

2. Ability to achieve program objectives: Objectives should be reasonable, feasible, and flexible. Proposals should clearly demonstrate how the institution will meet the program's objectives and plan.

3. Multiplier effect/impact: Proposed programs should strengthen long-term mutual understanding, including maximum sharing of information and establishment of long-term institutional and individual linkages.

4. Support of diversity: Proposals should demonstrate substantive support of the Bureau's policy on diversity. Achievable and relevant features should be cited in both program administration (selection of participants, program venue, and program evaluation) and program content (orientation and wrap-up sessions, program meetings, resource materials, and follow-up activities).

5. Institutional capacity: Proposed personnel and institutional resources should be adequate and appropriate to achieve the program or project's goals.

6. Institution's record/ability: Proposals should demonstrate an institutional record of successful exchange programs, including responsible fiscal management and full compliance with all reporting requirements for past Bureau Cooperative Agreements as determined by Bureau Grants Staff. The Bureau will consider the past performance of prior Recipients and the demonstrated potential of new applicants.

7. Follow-on activities: Proposals should provide a plan for continued follow-on activity (without Bureau support), ensuring that Bureau supported programs are not isolated events.

8. Project evaluation: Proposals should include a plan to evaluate the activities' success, both as the activities unfold and at the end of the program. A draft survey questionnaire, or other technique, plus description of a methodology to be used to link outcomes to original project objectives is recommended.

9. Cost-effectiveness and Cost Sharing: The overhead and administrative components of the proposal, including salaries and honoraria, should be kept as low as possible. All other budgeted items should be necessary and appropriate. Proposals should maximize cost-sharing through other private sector support as well as institutional direct funding contributions.

10. Professional expertise in teaching English as a Foreign/Second Language (TEFL/TESL): The proposal should demonstrate a publicity and recruitment plan that allows for the greatest dissemination of information to professionals in the areas of teaching English as a foreign language, Applied Linguistics, and related fields.

VI. Award Administration Information

VI.1a. Award Notices

Final awards cannot be made until funds have been appropriated by Congress, allocated, and committed through internal Bureau procedures. Successful applicants will receive a Federal Assistance Award (FAA) from the Bureau's Grants Office. The FAA and the original proposal with subsequent modifications (if applicable) shall be the only binding authorizing documents between the Recipient and the U.S. Government. The FAA will be signed by an authorized Grants Officer and mailed to the Recipient's responsible officer identified in the application.

Unsuccessful applicants will receive notification of the results of the application review from the ECA program office coordinating this competition.

The Recipient shall insert the foregoing provision in all sub-agreements under the award.

This provision includes express terms and conditions of the agreement and any violation of it shall be grounds for unilateral termination of the agreement by the Department of State prior to the end of its term.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local, and Indian Governments.”

OMB Circular No. A-110 (Revised), “Uniform Administrative Requirements for Grants and Agreements with Institutions of Higher Education, Hospitals, and other Nonprofit Organizations.”

OMB Circular No. A-102, “Uniform Administrative Requirements for Grants-in-Aid to State and Local Governments.”

OMB Circular No. A-133, “Audits of States, Local Government, and Non-profit Organizations.”

Please reference the following Web sites for additional information: http://www.whitehouse.gov/omb/grants.

VI.3. Reporting Requirements: You must provide ECA with a hard copy original plus two copies of the following reports:

1. A final program and financial report no more than 90 days after the expiration of the award;

2. A concise, one-page final program report summarizing program outcomes no more than 90 days after the expiration of the award. This one-page report will be transmitted to OMB, and be made available to the public via OMB's USAspending.gov Web site—as part of ECA's Federal Funding Accountability and Transparency Act (FFATA) reporting requirements.

3. A SF-PPR, “Performance Progress Report” Cover Sheet with all program reports.

4. A Quarterly Program Report: A narrative program report describing and evaluating the activities shall be submitted within 30 days following each calendar year quarter.

5. A Quarterly Financial Report: A financial report using SF 425-FFR to reflect expenditures shall be submitted within 30 days following each calendar year quarter. The report must be certified by the Recipient's Chief Fiscal Officer or an officer of comparable rank.

Award recipients will be required to provide reports analyzing evaluation findings to the Bureau in the regular program reports. (Please refer to IV. Application and Submission Instructions (IV.3.d.3) above for Program Monitoring and Evaluation information).

All data collected, including survey responses and contact information, must be maintained for a minimum of three years and provided to the Bureau upon request.

All reports must be sent to the ECA Grants Officer and ECA Program Officer listed in the final assistance award document.

VI.4. Optional Program Data Requirements: Organizations awarded a Cooperative Agreement will be required to maintain specific data on program participants and activities in an electronically accessible database format that can be shared with the Bureau as required. As a minimum, the data must include the following:

(1) Name, address, contact information, and biographic sketch of all persons who travel internationally on funds provided by the Cooperative Agreement or who benefit from the Cooperative Agreement funding but do not travel. (2) Itineraries of international and domestic travel, providing dates of travel and cities in which any exchange experiences take place. Final schedules for in-country and U.S. activities must be received by the ECA Program Officer at least three work days prior to the official opening of the activity.

VII. Agency Contacts

For questions about this announcement, contact: Catherine Williamson, Office of English Language Programs, ECA/A/L, U.S. Department of State, SA-5, 2200 C Street, NW., Washington, DC 20522, telephone (202)632-9267, fax (202) 632-9464, e-mail williamsoncj@state.gov.

All correspondence with the Bureau concerning this RFGP should reference the above title and number ECA/A/L-12-01.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: May 3, 2011.
Ann Stock,
Assistant Secretary, Bureau of Educational and Cultural Affairs, Department of State.

[FR Doc. 2011-11430 Filed 5-9-11; 8:45 am]

BILLING CODE 4710-05-P